DEPARTMENT OF THE INTERIOR

Geological Survey

Technology Transfer Act of 1986

AGENCY: Geological Survey, Interior.

ACTION: Notice of Proposed Cooperative Research & Development Agreement (CRADA) Negotiations.

SUMMARY: The United States Geological Survey (USGS) is contemplating entering into a Cooperative Research and Development Agreement (CRADA) with Riverside Technology, Inc. to develop Integrated Science Partnerships that promote Global USGS Mission Objectives.

INQUIRIES: If any other parties are interested in similar activities with the USGS, please contact Richard J. Calnan, 12201 Sunrise Valley Drive, MS 917, Reston, VA 21092, phone: (703) 648-6206.

SUPPLEMENTARY INFORMATION: This notice is submitted to meet the USGS policy requirements stipulated in Survey Manual Chapter 500.20.

Dated: November 8, 2001.
P. Patrick Leahy,
Associate Director for Geology.

[FR Doc. 01-30630 Filed 12-11-01; 8:45 am]

BILLING CODE 4310-47-M